DEPARTMENT OF COMMERCE

International Trade Administration

[A-570-836]

Glycine From the People's Republic of China: Preliminary Results of Antidumping Duty Administrative Review and Preliminary Determination of No Shipments; 2019-2020

AGENCY: Enforcement and Compliance, International Trade Administration, Department of Commerce.

SUMMARY: The Department of Commerce (Commerce) is conducting an administrative review of the antidumping duty order on glycine from the People's Republic of China (China), covering the period March 1, 2019 through February 29, 2020. Commerce preliminarily determines that Studio Disrupt, Mulji Mehta Enterprises (Mulji Mehta), Kumar Industries (Kumar), and Baoding Mantong Fine Chemistry Co., Ltd. (Baoding Mantong) did not have shipments of subject merchandise during the period of review (POR). Additionally, Commerce preliminarily finds Avid Organics Private Limited (Avid) to be part of the China-wide entity. Interested parties are invited to comment on this preliminary determination.

DATES: Applicable October 22, 2020.

FOR FURTHER INFORMATION CONTACT: John C. McGowan, AD/CVD Operations, Office VI, Enforcement and Compliance, International Trade Administration, U.S. Department of Commerce, 1401 Constitution Avenue NW, Washington, DC 20230; telephone: (202) 482-3019.

SUPPLEMENTARY INFORMATION:

Background

On March 2, 2020, Commerce published a notice of opportunity to request an administrative review of the antidumping duty order on glycine from China for the POR.¹ On May 6, 2020, in response to a timely request from the petitioner,² and in accordance with section 751(a) of the Tariff Act of 1930, as amended (the Act), and 19 CFR 351.221(c)(1)(i), we initiated an administrative review of the antidumping duty order on glycine from China with respect to Avid; Studio Disrupt; Mulji Mehta; Kumar; and Baoding Mantong.³ On July 21, 2020, Commerce tolled all deadlines in administrative reviews by 60 days, thereby extending the deadline for these preliminary results until February 1, 2021.⁴

¹ See Antidumping or Countervailing Duty Order, Finding, or Suspended Investigation; Opportunity to Request Administrative Review, 85 FR 12267 (March 2, 2020).

² The petitioner is GEO Specialty Chemical Inc. See Petitioner's Letter, “Glycine from the People's Republic of China (A-570-836): Request for Administrative Review,” dated March 31, 2020.

³ See Initiation of Antidumping and Countervailing Duty Administrative Reviews, 85 FR 26931, 26935 (May 6, 2020).

⁴ See Memorandum, “Tolling of Deadlines for Antidumping and Countervailing Duty Administrative Reviews,” dated July 21, 2020. In accordance with Commerce's practice, where a deadline falls on a weekend or federal holiday, the appropriate deadline is the next business day. See Notice of Clarification: Application of “Next Business Day” Rule for Administrative Determination Deadlines Pursuant to the Tariff Act of 1930, As Amended, 70 FR 24533 (May 10, 2005).

Scope of the Order

The product covered by this antidumping duty order is glycine, which is a free-flowing crystalline material, like salt or sugar. Glycine is produced at varying levels of purity and is used as a sweetener/taste enhancer, a buffering agent, reabsorbable amino acid, chemical intermediate, and a metal complexing agent. This proceeding includes glycine of all purity levels. Glycine is currently classified under subheading 2922.49.4020 of the Harmonized Tariff Schedule of the United States (HTSUS).⁵ Although the HTSUS subheading is provided for convenience and customs purposes, the written description of the merchandise under the order is dispositive.

⁵ In separate scope rulings, Commerce determined that: (a) D(-) Phenylglycine Ethyl Dane Salt is outside the scope of the order; and (b) PRC-origin glycine exported from India remains the same class or kind of merchandise as the Chinese-origin glycine imported into India. See Notice of Scope Rulings and Anticircumvention Inquiries, 62 FR 62288 (November 21, 1997); and Glycine from the People's Republic of China: Final Partial Affirmative Determination of Circumvention of the Antidumping Duty Order, 77 FR 73426 (December 10, 2012), respectively.

Preliminary Determination of No Shipments

For the purpose of respondent selection, on May 12, 2020, we requested U.S. Customs and Border Protection (CBP) data. This query returned no entries by the companies subject to this administrative review during the POR.⁶ Subsequently, we received timely submissions from Studio Disrupt; Mulji Mehta; Kumar; and Baoding Mantong, certifying that they did not have sales, shipments, or exports of subject merchandise to the United States during the POR. In order to confirm these certifications, we issued inquiries to CBP requesting that CBP alert Commerce if CBP has any information contrary to these no shipment claims.⁷ On August 20, 2020, we received notification from CBP that there is no information contrary to the no shipment claims.⁸

⁶ See Memorandum, “Glycine from the People's Republic of China; 2019-2020: Release of U.S. Customs and Border Protection Import Data,” dated May 12, 2020.

⁷ See CBP message numbers 0230401, 0230402, 0230403, and 0230404, dated August 17, 2020, and available at https://aceservices.cbp.dhs.gov/adcvdweb/.

⁸ See Memorandum, “Glycine from the People's Republic of China (A-570-836) (A-533-975): No shipment inquiries with respect to the companies below during the period 03/01/2019 through 02/29/2020,” dated August 20, 2020.

Because we have not received information to the contrary from CBP, consistent with our practice, we preliminarily determine that Studio Disrupt; Mulji Mehta; Kumar; and Baoding Mantong had no shipments of subject merchandise during the POR.⁹

⁹ See, e.g., Certain Steel Threaded Rod from the People's Republic of China: Preliminary Results of the Antidumping Duty Administrative Review and Preliminary Determination of No Shipments; 2018-2019, 84 FR 71900 (December 30, 2019).

China-Wide Entity

Under Commerce's policy regarding the conditional review of the China-wide entity,¹⁰ the China-wide entity will not be under review unless a party specifically requests, or Commerce self-initiates, a review of the entity. Because no party requested a review of the China-wide entity in this review, the entity is not under review, and the entity's rate (i.e., 155.89 percent) is not subject to change.¹¹ Aside from the no shipment companies, discussed above, Commerce considers all companies for which a review was requested and which did not file a separate rate application or a no shipment certification letter (i.e., Avid) not eligible for a separate rate and, accordingly, to be part of the China-wide entity.

¹⁰ See Antidumping Proceedings: Announcement of Change in Department Practice for Respondent Selection in Antidumping Duty Proceedings and Conditional Review of the Nonmarket Economy Entity in NME Antidumping Duty Proceedings, 78 FR 65963 (November 4, 2013).

¹¹ See, e.g., Diamond Sawblades and Parts Thereof from the People's Republic of China; Final Results of Antidumping Duty Administrative Review; 2012-2013, 80 FR 32344, 32345 (June 8, 2015).

Public Comment

Pursuant to 19 CFR 351.309(c)(ii), interested parties may submit case briefs no later than 30 days after the date of publication of these preliminary results of review. Rebuttal briefs, limited to issues raised in the case briefs, may be filed no later than seven days after the case briefs are filed.¹²

¹² See 19 CFR 351.309(d); see also Temporary Rule Modifying AD/CVD Service Requirements Due to COVID-19, 85 FR 17006, 17007 (March 26, 2020) (Temporary Rule).

Note that Commerce has temporarily modified certain of its requirements for serving documents containing business proprietary information, until further notice.¹³ Parties who submit case briefs or rebuttal briefs in this proceeding are requested to submit with each brief: (1) A statement of the issue; (2) a brief summary of the argument; and (3) a table of authorities.¹⁴ Executive summaries should be limited to five pages total, including footnotes.¹⁵ Case and rebuttal briefs should be filed using ACCESS.¹⁶

¹³ See 19 CFR 351.303 (for general filing requirements); see also Temporary Rule; and Temporary Rule Modifying AD/CVD Service Requirements Due to COVID-19; Extension of Effective Period, 85 FR 41363 (July 10, 2020).

¹⁴ See 19 CFR 351.309(c)(2) and (d)(2).

¹⁵ Id.

¹⁶ See 19 CFR 351.303.

Pursuant to 19 CFR 351.310(c), interested parties who wish to request a hearing, limited to issues raised in the case and rebuttal briefs, must submit a written request to the Assistant Secretary for Enforcement and Compliance, filed electronically via ACCESS, within 30 days after the date of publication of this notice. Requests should contain the party's name, address, and telephone number, the number of participants, whether any participant is a foreign national, and a list of the issues to be discussed. If a request for a hearing is made, Commerce intends to hold the hearing at a date and time to be determined.¹⁷ Parties should confirm by telephone the date, time, and location of the hearing two days before the scheduled date.

¹⁷ See 19 CFR 351.310(c).

Commerce intends to issue the final results of this administrative review, including the results of our analysis of the issues raised in any written briefs, not later than 120 days after the date of publication of these preliminary results in the Federal Register, unless otherwise extended.¹⁸

¹⁸ See section 751(a)(3)(A) of the Act.

Assessment Rates

Upon issuing the final results of this review, Commerce will determine, and CBP shall assess, antidumping duties on all appropriate entries covered by this review.¹⁹ Commerce intends to issue assessment instructions to CBP 15 days after the publication date of the final results of this review. We intend to instruct CBP to liquidate entries of subject merchandise exported by the China-wide entity, including the five companies for which a review was requested, at the China-wide rate. Additionally, pursuant to Commerce's practice in non-market economy (NME) cases, any suspended entries of subject merchandise during the POR under case numbers for the companies for which a review was requested will be liquidated at the China-wide rate.²⁰

¹⁹ See 19 CFR 351.212(b).

²⁰ For a full discussion of this practice, see Non-Market Economy Antidumping Proceedings: Assessment of Antidumping Duties, 76 FR 65694 (October 24, 2011).

Cash Deposit Requirements

The following cash deposit requirements will be effective upon publication of the final results of this review for shipments of subject merchandise from China entered, or withdrawn from warehouse, for consumption on or after the publication date, as provided by sections 751(a)(2)(C) of the Act: (1) For previously investigated or reviewed China and non-China exporters that received a separate rate in a prior segment of this proceeding, the cash deposit rate will continue to be the existing exporter-specific rate; (2) for all Chinese exporters of subject merchandise that have not been found to be entitled to a separate rate, the cash deposit rate will be the rate for the China-wide entity, which is 155.89 percent; and (3) for all non-China exporters of subject merchandise which have not received their own rate, the cash deposit rate will be the rate applicable to the China exporter that supplied that non-China exporter.

These deposit requirements, when imposed, shall remain in effect until further notice.

Notification to Importers

This notice serves as a preliminary reminder to importers of their responsibility under 19 CFR 351.402(f)(2) to file a certificate regarding the reimbursement of antidumping duties prior to liquidation of the relevant entries during these PORs. Failure to comply with this requirement could result in Commerce's presumption that reimbursement of antidumping duties occurred and the subsequent assessment of double antidumping duties.

Notification to Interested Parties

This administrative review and notice are issued and published in accordance with sections 751(a)(1) and 777(i)(1) of the Act and 19 CFR 351.221(b)(4).

Dated: October 15, 2020.
Jeffrey I. Kessler,
Assistant Secretary for Enforcement and Compliance.

[FR Doc. 2020-23427 Filed 10-21-20; 8:45 am]

BILLING CODE 3510-DS-P